ENVIRONMENTAL PROTECTION AGENCY

[EPA-HQ-OECA-2005-0049; FRL-8166-2]

Agency Information Collection Activities; Submission to OMB for Review and Approval; Comment Request; NESHAP for Reinforced Plastic Composites Production (Renewal), EPA ICR Number 1976.03, OMB Control Number 2060-0509

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before June 5, 2006.

ADDRESSES: Submit your comments, referencing docket ID number EPA-HQ-OECA-2005-0049, to (1) EPA online using http://www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: María Malavé, Compliance Assessment and Media Programs Division (Mail Code 2223A), Office of Compliance, Environmental Protection Agency, 1200 Pennsylvania Avenue, NW., Washington, DC 20460; telephone number: (202) 564-7027; fax number: (202) 564-0050; e-mail address: malave.maria@epa.gov.

SUPPLEMENTARY INFORMATION: EPA has submitted the following ICR to OMB for review and approval according to the procedures prescribed in 5 CFR 1320.12. On May 6, 2005 (70 FR 24020), EPA sought comments on this ICR pursuant to 5 CFR 1320.8(d). EPA received no comments. Any additional comments on this ICR should be submitted to EPA and OMB within 30 days of this notice.

EPA has established a public docket for this ICR under docket ID number EPA-OECA-2005-0049, which is available for public viewing online at http://www.regulations.gov, or in person viewing at the Enforcement and Compliance Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: NESHAP for Reinforced Plastic Composites Production (Renewal).

ICR Numbers: EPA ICR Number 1976.03, OMB Control Number 2060-0509.

ICR Status: This ICR is scheduled to expire on May 31, 2006. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9 and displayed either by publication in the Federal Register or by other appropriate means, such as on the related collection instrument or form, if applicable. The display of OMB control numbers in certain EPA regulations is consolidated in 40 CFR part 9.

Abstract: The National Emission Standards for Hazardous Air Pollutants (NESHAP) for reinforced plastic composites (RPC) production operations and processes, published at 40 CFR part 63, subpart WWWW, were proposed on August 2, 2001 (66 FR 40323), and promulgated on April 21, 2003 (68 FR 19375). These standards regulate fugitive emissions from reinforced plastic composites (RPC) production operations and processes resulting from hazardous air pollutants (HAP) evaporating from the resins, gel coats, and cleaning solvents used in it. The owner or operator of a RPC manufacturing facility must control hazardous air pollutants (HAPs) by either limiting the HAP content of materials used and using non-atomized spray application in the manufacturing processes or by using an enclosure and add-on control device. This information is being collected to assure compliance with 40 CFR part 63, subpart WWWW.

Owners and operators of affected sources are subject to the monitoring, recordkeeping and reporting requirements of 40 CFR part 63, subpart A, the General Provisions, unless specified otherwise in the regulation. This rule requires sources to submit initial notifications, conduct performance tests if source is using an add-on control device, and submit periodic compliance reports. In addition, sources are required to maintain records of the occurrence and duration of any startup, shutdown, or malfunction in the operation if using an add-on control device; any period during which the monitoring system is inoperative; parametric monitoring data; system maintenance and calibration; and work practices to demonstrate initial and ongoing compliance with the regulation. Records of such measurements and actions are to be retained two years on-site of the required total five years. All reports are sent to the delegated state or local authority. In the event that there is no such delegated authority, the reports are sent directly to the EPA regional office.

Burden Statement: The annual public reporting and recordkeeping burden for this collection of information is estimated to average 16 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners or operators of reinforced plastic composites (RPC) production operations and processes.

Estimated Number of Respondents: 504.

Frequency of Response: On occasion, semiannually, and initially.

Estimated Total Annual Hour Burden: 17,740.

Estimated Total Annual Cost: $1,454,143. which includes 0 annualized capital startup costs, $22,000 annualized O&M costs and $1,432,143 annualized labor costs.

Changes in the Estimates: The increase in labor burden to industry from the most recently approved ICR from 13,785 hours to 17,740 is due to adjustments. The increase in burden from the most recently approved ICR is primarily due to an increase from 435 to 488 in the number of existing sources, the assumption that all existing sources are in full compliance with the rule requirements, and because our estimates show that an average of 16 new respondents each year will become subject to this standard over the three-year period of this ICR.

The total annualized capital and operations and maintenance (O&M) costs increase from $15,807 to $21,680 is based on an increase in the number of sources. There are no startup capital costs since monitors are an integral part of the control equipment necessary to determine that it is operating properly. In addition, we have assumed that any new respondent has the software to develop the necessary spreadsheets for their recordkeeping system. The estimated annual O&M costs averaged over the three years of this ICR are associated with other costs, not associated with monitoring equipment. We estimate that file storage and photocopying costs per response are estimated at $12.50 per hour of clerical labor, and first class postage is estimated at $7.63 per response for mailing to regulatory agencies. Therefore, we estimate the annual O&M cost to be $21,680 based on 1,077 responses and an average of one hour of clerical work per response.

Dated: April 27, 2006.
Oscar Morales,
Director, Collection Strategies Division.

[FR Doc. E6-6750 Filed 5-3-06; 8:45 am]

BILLING CODE 6560-50-P